DEPARTMENT OF COMMERCE

International Trade Administration

[A-588-850]

Certain Large Diameter Carbon and Alloy Seamless Standard, Line, and Pressure Pipe (over 4½ inches) From Japan: Rescission of Antidumping Duty Administrative Review; 2019-2020

AGENCY: Enforcement and Compliance, International Trade Administration, Department of Commerce.

SUMMARY: The Department of Commerce (Commerce) is rescinding the administrative review of the antidumping duty (AD) order on certain large diameter carbon and alloy seamless standard, line, and pressure pipe (over 4 ½ inches) from Japan for the period of review (POR) June 1, 2019, through May 31, 2020, based on the timely withdrawal of the request for review.

DATES: Applicable October 6, 2020.

FOR FURTHER INFORMATION CONTACT: Konrad Ptaszynski, AD/CVD Operations, Office I, Enforcement and Compliance, International Trade Administration, U.S. Department of Commerce, 1401 Constitution Avenue NW, Washington, DC 20230; telephone: (202) 482-6187.

SUPPLEMENTARY INFORMATION:

Background

On June 2, 2020, Commerce published a notice of opportunity to request an administrative review of the AD order on certain large diameter carbon and alloy seamless standard, line, and pressure pipe (over 4 ½ inches) from Japan for the POR of June 1, 2019 through May 31, 2020.¹ United States Steel Corporation (U.S. Steel) timely filed requests for an administrative review of Nippon Steel Corporation, Kawasaki Steel Corporation, Sumitomo Metal Industries, Ltd., Okaya & Co., Ltd., and Sumitomo Corporation, in accordance with section 751(a) of the Tariff Act of 1930, as amended (the Act), and 19 CFR 351.213(b).² Commerce received no other requests for administrative review.

¹ See Antidumping or Countervailing Duty Order, Finding, or Suspended Investigation; Opportunity to Request Administrative Review, 85 FR 33628 (June 2, 2020).

² See U.S. Steel's Letter, “Carbon and Alloy Seamless Standard Line, and Pressure Pipe (Over 4 ½ Inches) from Japan: Request for Administrative Review of Antidumping Duty Order,” dated June 22, 2020.

On August 6, 2020, pursuant to these requests and in accordance with 19 CFR 351.221(c)(1)(i), Commerce published a notice initiating an administrative review of the AD order on large diameter carbon and alloy seamless standard, line, and pressure pipe (over 4 ½ inches) from Japan.³ On September 1, 2020, U.S. Steel withdrew its request for an administrative review with respect to all of the companies for which it had requested a review.⁴

³ See Initiation of Antidumping and Countervailing Duty Administrative Reviews, 85 FR 47731 (August 6, 2020).

⁴ See U.S. Steel's Letter, “Carbon and Alloy Seamless Standard, Line, and Pressure Pipe (Over 4.5 Inches) from Japan: Withdrawal of Request for Administrative Review of Antidumping Duty Order,” dated September 1, 2020.

Rescission of Review

Pursuant to 19 CFR 351.213(d)(1), Commerce will rescind an administrative review, in whole or in part, if the party or parties that requested a review withdraws the request within 90 days of the publication date of the notice of initiation of the requested review. U.S. Steel withdrew its request for review of all companies within 90 days of the publication date of the notice of initiation. No other parties requested an administrative review of the order. Therefore, in accordance with 19 CFR 351.213(d)(1), we are rescinding the administrative review of the AD order on certain small diameter carbon and alloy seamless standard, line, and pressure pipe (over 4 ½ inches) from Japan covering June 1, 2019, through May 31, 2020, its entirety.

Assessment

Commerce will instruct U.S. Customs and Border Protection (CBP) to assess antidumping duties on all appropriate entries of large diameter carbon and alloy seamless standard, line, and pressure pipe (over 4 ½ inches) from Japan during the POR. Antidumping duties shall be assessed at rates equal to the cash deposit of estimated antidumping duties required at the time of entry, or withdrawal from warehouse, for consumption in accordance with 19 CFR 351.212(c)(1)(i). Commerce intends to issue appropriate assessment instructions to CBP 15 days after the date of publication of this notice in the Federal Register.

Notification to Importers

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of doubled antidumping duties.

Administrative Protective Orders

This notice also serves as a reminder to all parties subject to administrative protective order (APO) of their responsibility concerning the disposition of proprietary information disclosed under APO in accordance with 19 CFR 351.305. Timely written notification of the return/destruction of APO materials or conversion to judicial protective order is hereby requested. Failure to comply with the regulations and terms of an APO is a violation which is subject to sanction.

Notification to Interested Parties

This notice is issues and published in accordance with sections 751(a)(1) and 777(i)(1) of the Act, and 19 CFR 351.213(d)(4).

Dated: September 22, 2020.
James Maeder,
Deputy Assistant Secretary for Antidumping and Countervailing Duty Operations.

[FR Doc. 2020-22050 Filed 10-5-20; 8:45 am]

BILLING CODE 3510-DS-P